DEPARTMENT OF ENERGY

Federal Energy Regulatory Commission

Combined Notice of Filings

August 20, 2008.

Take notice that the Commission has received the following Natural Gas Pipeline Rate and Refund Report filings:

Docket Numbers: RP01-503-008.

Applicants: Natural Gas Pipeline Company of America LLC.

Description: Natural Gas Pipeline Company of America LLC submits Original Sheet 477A et al. to FERC Gas Tariff, Seventh Revised Volume 1, effective 9/15/08.

Filed Date: 08/15/2008.

Accession Number: 20080819-0109.

Comment Date: 5 p.m. Eastern Time on Wednesday, August 27, 2008.

Docket Numbers: RP06-231-008. RP06-365-006.

Applicants: Norstar Operating, LLC v. Columbia Gas Transmission Corporation.

Description: Columbia Gas Transmission Corporation submits Second Substitute Fifth Revised Sheet 406 to FERC Gas Tariff, Second Revised Volume 1, to be effective 6/1/07.

Filed Date: 08/18/2008.

Accession Number: 20080820-0101.

Comment Date: 5 p.m. Eastern Time on Tuesday, September 02, 2008.

Docket Numbers: RP08-34-003.

Applicants: Kinder Morgan Illinois Pipeline LLC.

Description: Kinder Morgan Illinois Pipeline, LLC submits First Revised Sheet 213 et al. to FERC Gas Tariff, Original Volume 1, to be effective 9/15/08.

Filed Date: 08/15/2008.

Accession Number: 20080819-0110.

Comment Date: 5 p.m. Eastern Time on Wednesday, August 27, 2008.

Docket Numbers: RP08-464-000.

Applicants: Stingray Pipeline Company, L.L.C.

Description: Request for Extension of Time of Stingray Pipeline Company, L.L.C.

Filed Date: 07/30/2008.

Accession Number: 20080730-5019.

Comment Date: 5 p.m. Eastern Time on Monday, August 25, 2008.

Docket Numbers: RP08-466-000.

Applicants: Mississippi Canyon Gas Pipeline, L.L.C.

Description: Request of Mississippi Canyon Gas Pipeline, L.L.C. for Extension of Time to Implement an Electronic Short-Term Capacity Release Bidding System.

Filed Date: 07/30/2008.

Accession Number: 20080730-5023.

Comment Date: 5 p.m. Eastern Time on Monday, August 25, 2008.

Docket Numbers: RP08-469-000.

Applicants: Gulf South Pipeline Company, LP.

Description: Request for Limited Waiver of Order No. 712 Implementation Date of Gulf South Pipeline Company, LP.

Filed Date: 07/30/2008.

Accession Number: 20080730-5050.

Comment Date: 5 p.m. Eastern Time on Monday, August 25, 2008.

Docket Numbers: RP08-495-001.

Applicants: Texas Gas Transmission, LLC.

Description: Texas Gas Transmission, LLC submits Second Revised Volume 1 et al. effective 9/1/08.

Filed Date: 08/15/2008.

Accession Number: 20080818-0218.

Comment Date: 5 p.m. Eastern Time on Wednesday, August 27, 2008.

Docket Numbers: RP08-500-000.

Applicants: ANR Pipeline Company.

Description: ANR Pipeline Company submits Fiftieth Revised Sheet 17 from its FERC Gas Tariff, Second Revised 1 and Twenty-Second Sheet 14 from its FERC Gas Tariff 2 effective 10/1/08.

Filed Date: 08/15/2008.

Accession Number: 20080818-0219.

Comment Date: 5 p.m. Eastern Time on Wednesday, August 27, 2008.

Docket Numbers: RP08-501-000.

Applicants: ANR Storage Company.

Description: ANR Storage Company submits Thirteenth Revised Sheet 5 from its FERC Gas Tariff 1 and Fifteenth Revised Sheet 1(a) from its FERC Gas Tariff 2 effective 10/1/08.

Filed Date: 08/15/2008.

Accession Number: 20080818-0220.

Comment Date: 5 p.m. Eastern Time on Wednesday, August 27, 2008.

Docket Numbers: RP08-502-000.

Applicants: Cheyenne Plains Gas Pipeline Company LLC.

Description: Cheyenne Plains Gas Pipeline Company submits Original Volume 1 et al. to its FERC Gas Tariff et al. effective 10/1/08.

Filed Date: 08/15/2008.

Accession Number: 20080818-0221.

Comment Date: 5 p.m. Eastern Time on Wednesday, August 27, 2008.

Docket Numbers: RP08-504-000.

Applicants: El Paso Natural Gas Company.

Description: El Paso Natural Gas Company submits First Revised Third Revised Sheet 29.01 to its FERC Gas Tariff, Second Revised 1-A.

Filed Date: 08/15/2008.

Accession Number: 20080818-0223.

Comment Date: 5 p.m. Eastern Time on Wednesday, August 27, 2008.

Docket Numbers: RP08-505-000.

Applicants: Mojave Pipeline Company.

Description: Mojave Pipeline Company submits Twenty-Second Revised Sheet 11 to its FERC Gas Tariff, Second Revised Volume 1.

Filed Date: 08/15/2008.

Accession Number: 20080818-0224.

Comment Date: 5 p.m. Eastern Time on Wednesday, August 27, 2008.

Docket Numbers: RP08-506-000.

Applicants: Wyoming Interstate Company, Ltd.

Description: Wyoming Interstate Company, LTD submits Twenty-First Revised Sheet 48 to its FERC Gas Tariff, Second Revised 2.

Filed Date: 08/15/2008.

Accession Number: 20080818-0225.

Comment Date: 5 p.m. Eastern Time on Wednesday, August 27, 2008.

Docket Numbers: RP08-507-000.

Applicants: Dominion South Pipeline Company, LP.

Description: Dominion South Pipeline Company, LP submits Third Revised Sheet 50 and 51 to FERC Gas Tariff, Original Volume 1, to be effective 10/1/08.

Filed Date: 08/15/2008.

Accession Number: 20080819-0108.

Comment Date: 5 p.m. Eastern Time on Wednesday, August 27, 2008.

Docket Numbers: RP08-508-000.

Applicants: Dominion Transmission, Inc.

Description: Dominion Transmission, Inc submits its Thirty-Fifth Revised Sheet 31 et al. to FERC Gas Tariff, Third Revised Volume 1.

Filed Date: 08/15/2008.

Accession Number: 20080819-0107.

Comment Date: 5 p.m. Eastern Time on Wednesday, August 27, 2008.

Docket Numbers: RP08-509-000.

Applicants: Dominion Cove Point LNG, LP.

Description: Dominion Cove Point LNG, LP submits the Ninth Revised Sheet 5 et al. to FERC Gas Tariff, Original Volume 1.

Filed Date: 08/15/2008.

Accession Number: 20080819-0106.

Comment Date: 5 p.m. Eastern Time on Wednesday, August 27, 2008.

Docket Numbers: RP08-510-000.

Applicants: Blue Lake Gas Storage Company.

Description: Blue Lake Gas Storage Company submits Thirteenth Revised Sheet 5 to FERC Gas Tariff, First Revised Volume 1, to be effective 10/1/08.

Filed Date: 08/18/2008.

Accession Number: 20080820-0103.

Comment Date: 5 p.m. Eastern Time on Tuesday, September 02, 2008.

Docket Numbers: RP08-511-000.

Applicants: Tuscarora Gas Transmission Company.

Description: Tuscarora Gas Transmission Company submits Tenth Revised Sheet 4 et al. to FERC Gas Tariff, Original Volume 1, to be effective 10/1/08.

Filed Date: 08/18/2008.

Accession Number: 20080820-0104.

Comment Date: 5 p.m. Eastern Time on Tuesday, September 02, 2008.

Docket Numbers: RP08-512-000.

Applicants: North Baja Pipeline, LLC.

Description: North Baja Pipeline, LLC submits Sixth Revised Sheet 4 to FERC Gas Tariff, Original Volume 1, to be effective 10/1/08.

Filed Date: 08/18/2008.

Accession Number: 20080820-0105.

Comment Date: 5 p.m. Eastern Time on Tuesday, September 02, 2008.

Docket Numbers: RP08-513-000.

Applicants: Gas Transmission Northwest Corporation.

Description: Gas Transmission Northwest Corp submits Fourteenth Revised Sheet 4 et al. to FERC Gas Tariff, Third Revised Volume 1-A, to be effective 10/1/08.

Filed Date: 08/18/2008.

Accession Number: 20080820-0106.

Comment Date: 5 p.m. Eastern Time on Tuesday, September 02, 2008.

Docket Numbers: CP06-5-011.

Applicants: Empire Pipeline, Inc.

Description: Empire Pipeline, Inc submits Substitute Original Sheet No. 130 to FERC Gas Tariff, Original Volume No. 1, in compliance with the Commission's 12/21/06 order.

Filed Date: 08/18/2008.

Accession Number: 20080820-0102.

Comment Date: 5 p.m. Eastern Time on Wednesday, August 27, 2008.

Docket Numbers: CP08-17-002.

Applicants: Cimarron River Pipeline, LLC.

Description: Cimarron River Pipeline, LLC submits Substitute Original Sheet No. 17 of its proposed FERC Gas Tariff, Original Volume No. 1, with an effective date of 9/1/08.

Filed Date: 08/14/2008.

Accession Number: 20080818-0088.

Comment Date: 5 p.m. Eastern Time on Wednesday, August 27, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Kimberly D. Bose,
Secretary.

[FR Doc. E8-19644 Filed 8-22-08; 8:45 am]

BILLING CODE 6717-01-P